DEPARTMENT OF COMMERCE

National Oceanic and Atmospheric Administration

Agency Information Collection Activities; Submission to the Office of Management and Budget (OMB) for Review and Approval; Comment Request; Southeast Region Vessel and Gear Identification Requirements

AGENCY: National Marine Fisheries Service (NMFS), Commerce.

ACTION: Notice of information collection; request for comments.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of the collection to the Office of Management and Budget (OMB).

DATES: To ensure consideration, comments regarding this proposed information collection must be received by July 8, 2024.

ADDRESSES: Interested persons are invited to submit written comments to Adrienne Thomas, NOAA PRA Officer, at noaa.pra@noaa.gov. Please reference OMB Control Number 0648-0358 in the subject line of your comments. All comments received are part of the public record and will generally be posted on https://www.regulations.gov without change. Do not submit confidential business information or otherwise sensitive or protected information.

FOR FURTHER INFORMATION CONTACT: Requests for additional information or specific questions related to collection activities should be directed to Adam Bailey, NMFS, Southeast Regional Office, Sustainable Fisheries Division, 263 13th Avenue South, St. Petersburg, FL 33701, telephone: 727-824-5305, email: adam.bailey@noaa.gov.

SUPPLEMENTARY INFORMATION:

I. Abstract

NMFS proposes to extend the information collection under OMB Control Number 0648-0358 without change. The NMFS Southeast Region manages domestic fisheries in the U.S. exclusive economic zone of the Caribbean, Gulf of Mexico, and South Atlantic regions under multiple fishery management plans (FMPs). The regional fishery management councils prepared the FMPs pursuant to the Magnuson-Stevens Fishery Conservation and Management Act (Magnuson-Stevens Act). NMFS implements the FMPs through regulations located at 50 CFR part 622.

The regulations located at 50 CFR part 622 form the basis for the information collection requirements that are currently approved under OMB Control Number 0648-0358, Southeast Region Vessel and Gear Identification Requirements. NMFS has no immediate plans to change identification requirements for fishing vessels or gear in 50 CFR part 622.

Regulations at 50 CFR part 622 require that all federally permitted fishing vessels must be marked with some form of identification. A vessel's official number, under most regulations, must be displayed on the port and starboard sides of the deckhouse or hull, and on the weather deck. In addition, regulations for certain fisheries also require the display of the assigned color code for the vessel. The official number and color code identify each vessel and should be visible at distance from the sea and in the air. These markings provide law enforcement personnel with a means to monitor fishing, at-sea processing, and other related activities, and to determine whether observed activities on the vessel are in accordance with those authorized for that vessel. NMFS, the United States Coast Guard, and other marine agencies use the identifying official number in monitoring compliance, issuing violations, prosecutions, and other enforcement actions. Vessels that are authorized for particular fisheries are readily identified and gear violations are more readily prosecuted, thereby enabling for more cost-effective enforcement.

In addition to vessel marking, requirements that fishing gear be marked are essential to facilitate enforcement. The ability to link fishing gear to the vessel owner is crucial to enforcement of regulations issued under the authority of the Magnuson-Stevens Act. The marking of fishing gear is also valuable in actions concerning damage, loss, and civil proceedings. The requirements imposed on U.S. fisheries in the southeast region apply to aquacultured live rock; golden crab traps; spiny lobster traps and buoys; black sea bass pots, buoys, and buoy lines; Spanish mackerel gillnet buoys; and buoy gear.

II. Method of Collection

Markings, such as numbers, are placed directly on fishing vessels and gear.

III. Data

OMB Control Number: 0648-0358.

Form Number(s): None.

Type of Review: Regular submission—extension of a current information collection.

Affected Public: Businesses or other for-profit organizations.

Estimated Number of Respondents: 10,031.

Estimated Time Per Response: Vessel marking: 75 minutes. Gear marking: aquacultured live rocks, 10 seconds each; golden crab traps, 2 minutes each; spiny lobster traps and buoys, 7 minutes each; black sea bass pots, buoys, and buoy lines, 16 minutes each; and Spanish mackerel gillnet buoys, 20 minutes each; and buoy gear, 10 minutes each.

Estimated Total Annual Burden Hours: 40,335.

Estimated Total Annual Cost to Public: $544,752 in recordkeeping and reporting costs.

Respondent's Obligation: Mandatory.

Legal Authority: Magnuson-Stevens Act, 16 U.S.C. 1801 et seq.

IV. Request for Comments

We are soliciting public comments to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection review. Before including your address, phone number, email address, or other personal identifying information in your comment, you should be aware that your entire comment, including your personal identifying information, may be made publicly available at any time. While you may ask us in your comment to withhold your personal identifying information from public review, we cannot guarantee that we will be able to do so.

Sheleen Dumas,
Department PRA Clearance Officer, Office of the Under Secretary for Economic Affairs, Commerce Department.

[FR Doc. 2024-10168 Filed 5-8-24; 8:45 am]

BILLING CODE 3510-22-P